NUCLEAR WASTE TECHNICAL REVIEW BOARD

Meetings: U.S. Nuclear Waste Technical Review Board

The U.S. Nuclear Waste Technical Review Board will hold an online virtual public meeting to review information on DOE research and development activities related to disposal in a geologic repository of commercial spent nuclear fuel in dual-purpose canisters.

Pursuant to its authority under section 5051 of Public Law 100-203, Nuclear Waste Policy Amendments Act (NWPAA) of 1987, the U.S. Nuclear Waste Technical Review Board will hold an online virtual public meeting on Monday, July 27, 2020, and Tuesday, July 28, 2020, to review information on U.S. Department of Energy (DOE) research and development (R&D) activities related to disposal in a geologic repository of commercial spent nuclear fuel (SNF) in dual-purpose canisters (DPCs), which are designed for storage and transportation but not for disposal.

The Board meeting replaces the April 29, 2020, Spring Meeting, which the Board postponed due to the Covid-19 pandemic. Details for viewing and participating in the virtual meeting will be available on the Board's website (www.nwtrb.gov) not later than one week before the meeting.

The meeting will begin on both days at 12:30 p.m. Eastern Daylight Time (EDT) and is scheduled to adjourn at 5:00 p.m. EDT on July 27 and at 4:30 p.m. EDT on July 28. Speakers representing the DOE Office of Nuclear Energy and the national laboratories will report on R&D projects related to the feasibility of disposing in a geologic repository the SNF stored in DPCs without repackaging the SNF into other canisters. Speakers will review past studies on the technical feasibility of disposal of SNF in DPCs, including the technical bases for the engineering feasibility and thermal management of DPC disposal. The Board will hear presentations on DOE's ongoing R&D activities. Speakers will address analysis of DPC reactivity, which is used in criticality calculations, criticality consequence analyses for the period after the repository closes, and the testing and analysis of using filler materials to fill the void spaces inside a DPC prior to disposal. A detailed meeting agenda will be available on the Board's website approximately one week before the meeting.

The meeting will be open to the public, and opportunities for public comment will be provided. Details on how to comment publicly during the meeting will be provided on the Board's website along with the details for viewing the meeting. A limit may be set on the time allowed for the presentation of individual remarks. However, written comments of any length may be submitted to the Board staff by mail or electronic mail. All comments received in writing will be included in the meeting record, which will be posted on the Board's website after the meeting. An archived recording of the meeting will be available on the Board's website following the meeting. The transcript of the meeting will be available on the Board's website by September 28, 2020.

The Board was established in the Nuclear Waste Policy Amendments Act of 1987 as an independent federal agency in the Executive Branch to evaluate the technical and scientific validity of DOE activities related to the management and disposal of SNF and high-level radioactive waste, and to provide objective expert advice to Congress and the Secretary of Energy on these issues. Board members are experts in their fields and are appointed to the Board by the President from a list of candidates submitted by the National Academy of Sciences. The Board reports its findings, conclusions, and recommendations to Congress and the Secretary of Energy. All Board reports, correspondence, congressional testimony, and meeting transcripts and related materials are posted on the Board's website.

For information on the meeting agenda, contact Roberto Pabalan: pabalan@nwtrb.gov or Bret Leslie: leslie@nwtrb.gov. For information on logistics, or to request copies of the workshop agenda or transcript, contact Davonya Barnes: barnes@nwtrb.gov. All three may be reached by mail at 2300 Clarendon Boulevard, Suite 1300, Arlington, VA 22201-3367; by telephone at 703-235-4473; or by fax at 703-235-4495.

Dated: July 15, 2020.
Nigel Mote,
Executive Director, U.S. Nuclear Waste Technical Review Board.

[FR Doc. 2020-15610 Filed 7-17-20; 8:45 am]

BILLING CODE 6820-AM-P